DEPARTMENT OF HOUSING AND URBAN DEVELOPMENT

[Docket No. FR-5998-N-06]

60-Day Notice of Proposed Information Collection: Housing Opportunities for Persons With AIDS (HOPWA) Program

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 15, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Lisa Steinhauer, Community Planning and Development Specialist, Office of HIV/AIDS Housing, Department of Housing and Urban Development, 451 7th Street SW., Washington, DC 20410; email Lisa Steinhauer at Lisa.A.Steinhauer@hud.gov or telephone 202-402-5181. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Housing Opportunities for Persons With AIDS (HOPWA): Grant Application Submission, Recordkeeping, and Reporting.

OMB Approval Number: 2506-0133.

Type of Request: Revision of currently approved collection.

Form Number: HUD-40110-B, HUD-40110-C, HUD-40110-D, SF-424, SF-LLL, and HUD-2991.

Description of the need for the information and proposed use: The current paperwork reduction act approval under OMB Control No. 2506-0133 covers both the HOPWA formula and competitive grant programs. The competitive grant program includes new competitive grants and renewal grants. The information collection requirements pertain to grant application submission requirements which will be used to rate applications, determine eligibility, and establish grant amounts. HOPWA plans to continue using form HUD-40110-B, HOPWA Competitive Application & Renewal of Permanent Supportive Housing Project Budget Summary, as a component of determining applicant eligibility and establishing grant amounts for competitive grants. Limited technical edits are proposed for form HUD-40110-B. HOPWA competitive and renewal application submission also require submission of the following forms: SF424; SFLLL; and HUD-2991. Form HUD-2991 is currently covered under OMB approval number 2506-0112.

The addition of narratives to address the five HUD standard rating factors will allow HUD to rate application and further determine eligibility and establish grant amounts. Applicants applying for HUD competitive funds are required to respond to these five rating factors in narrative form. These narratives will complement the currently approved budget summary form, and allow HUD to determine if applicants are proposing projects within statutory and regulatory limitations. The five HUD standard rating factors include: Factor 1: Capacity of the Applicant and Relevant Organizational Staff; Factor 2: Need/Extent of the Problem; Factor 3: Soundness of Approach; Factor 4: Leveraging Resources; and Factor 5: Achieving Results and Program Evaluation. New HOPWA competitive applicants will be required to respond to each rating factor within the page limits establish in the grant solicitation. HOPWA renewal applicants will also be required to respond with narratives, but the information will be more limited and focused on continued compliance with the HOPWA program activities originally awarded until their initial grant application.

The reporting and recordkeeping for both HOPWA formula and competitive grant programs are also included in this approval. Technical edits are proposed for forms HUD-40110-C and HUD-40110-D, and are limited to updating outdated references and information currently contained in the forms. Grantees provide annual information on program accomplishments that supports program evaluation and the ability to measure program beneficiary outcomes related to: Maintaining housing stability; preventing homelessness; and improving access to care and support. Competitive grantees report through HUD-40110-C, the HOPWA Annual Performance Report (APR); Formula grantees report through HUD-40110-D, the HOPWA Consolidated Annual Performance and Evaluation Report (CAPER). Grantees are required to report on the activities undertaken only. HUD systematically reviews and conducts data analysis in order to prepare national and individual grantee performance profiles that are not only used to measure program performance against benchmark goals and objectives, but also to communicate the program's achievement and contributions towards Departmental strategic goals.

Completed technical edits incorporated into forms covered by this proposed information collection, as discussed above.

I. HUD-40110-B, HOPWA Competitive Application & Renewal of Permanent Supportive Housing Project Budget Summary

a. Cover page description. The statement, “Selections of applications for funding under the HOPWA Program are based on the rating factors set forth in the SuperNOFA for Housing and Community Development Programs and the criteria established in the annual HOPWA renewal notice for those permanent supportive housing grantee's seeking renewal funding.” changed to, “Selections of applications for funding under the HOPWA Program are based on the rating factors set forth in the published Notice of Funding Award (NOFA) and the criteria established in the annual HOPWA renewal notice for eligible permanent supportive housing grantees seeking renewal funding.” This edit reflects a change in Departmental process that now each program office releases a NOFA when funding is available to be awarded.

b. Cover page description. The public reporting burden was updated on the budget form to show the number of hours it would take to complete the renewal grant application versus the new competitive grant application.

c. Transparency Act Compliance. This section of the form was removed. All grantees are required to enter this information into Federal Funding Accountability and Transparency Act (FFATA) Subaward Reporting System (FSRS) so it is no longer necessary to collect this information here.

d. Applicant Certifications. Language from Appendix A of 24 CFR part 87 was added to cover the certification regarding lobbying for all applicants.

II. HUD-40110-C, HOPWA Annual Performance Report (APR)

a. Cover page and Overview pages.

i. Descriptive paragraph. The number of burden hours was updated.

ii. Recordkeeping. HMIS overview of HOPWA elements were updated to reflect current HMIS elements.

iii. Filing Requirements. The physical address was updated to include the correct room number.

iv. Program Income. The citation was updated to reflect new 2 CFR 200 requirements.

b. Part 2: Grantee Narrative and Assessment.

i. E. Unmet Housing Need. This section was removed. Grantees are no longer required to report on local unmet need.

c. Part 3: Summary Overview of Grant Activities.

i. Section 3: Households. The link to HUD-published area median income was updated.

III. HUD-40110-D, HOPWA Consolidated Annual Performance and Evaluation Report (CAPER)

a. Cover page and Overview pages.

i. Descriptive paragraph. The number of burden hours was updated.

ii. Recordkeeping. HMIS overview of HOPWA elements were updated to reflect current HMIS elements.

iii. Filing Requirements. The physical address was updated to include the correct room number.

iv. Program Income. The citation was updated to reflect new 2 CFR 200 requirements.

b. Part 1: 5. Grantee Narrative and Performance Assessment.

i. d. Unmet Housing Need. This section was removed. Grantees are no longer required to report on local unmet need.

c. Part 3. Accomplishment Data.

i. Opening paragraph. References to reporting in IDIS were removed. Grantees are no longer required to use IDIS for the reporting of Accomplishment Data.

d. Part 7: Summary Overview of Grant Activities.

i. Section 3: Households. The link to HUD-published area median income was updated.

Respondents (i.e., affected public): HOPWA competitive and renewal grant applicants, and all HOPWA formula, competitive, and renewal grantees.

Information collection | Number of respondents | Frequency of response | Responses per annum | Burden hour per response | Annual burden hours | Hourly cost per response | Annual cost
HOPWA Renewal Application | 28 | 1 | 28 | 15 | 420 | $23.85 | $10,017.00
HOPWA Competitive Application | 40 | 1 | 40 | 45 | 1,800 | 23.85 | 42,930.00
HUD-40110-C Annual Progress Report (APR) | 99 | 1 | 99 | 55 | 5,445 | 23.85 | 129,863.25
HUD-40110-D Consolidated Annual Performance and Evaluation Report (CAPER) | 128 | 1 | 128 | 41 | 5,248 | 23.85 | 125,164.80
Recordkeeping for Competitive, Renewal, and Formula Grantees | 227 | 1 | 227 | 60 | 13,620 | 23.85 | 324,837.00
Grant Amendments (budget change, extension, or early termination) | 30 | 1 | 30 | 6 | 180 | 23.85 | 4,293.00
Total | 258 |  | 552 |  | 26,713 |  | 637,105.05

Renewal grants are awarded for a three-year operating period. Currently, there are 82 eligible renewal grantees. The number of respondents listed for HOPWA renewal applications represents one-third of the renewal grantees, or the estimated number of grantees projected to renew HOPWA grants each year. The number of respondents listed for HOPWA competitive applications represents the number of respondents expected to submit an application if funding becomes available in the next three years. Form HUD-40110-C, the APR is submitted by all renewal and competitive grantees on an annual basis. The number of respondents for the APR include 82 renewal grantees, eight (8) current HOPWA competitive grantees, and nine (9) potential competitive grantees, if funding becomes available.

HOPWA grantees and applicants may be required to respond to more than one piece of information collection. The total number of respondents include: 82 Renewal grantees, eight (8) current HOPWA competitive grantees, 40 potential competitive applicants, and 128 current HOPWA formula grantees. The total of 552 total annual responses captures each unique response from the 258 respondents. All annualized costs reflect staff time spent on tasks in the table. The hourly rate is based on a GS-9 for Rest of United States. 26,713 hours * $23.85 = $637,105.05.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 12, 2017.
Clifford Taffet,
General Deputy Assistant Secretary for Community Planning and Development.

[FR Doc. 2017-12569 Filed 6-15-17; 8:45 am]

BILLING CODE 4210-67-P